DEPARTMENT OF HOMELAND SECURITY

Coast Guard

[CGD13-05-017]

Letter of Recommendation, Proposed LNG Project Northern Star Natural Gas LLC, Bradwood, Clatsop County, OR

AGENCY: Coast Guard, DHS.

ACTION: Request for comments; notice of public meeting; correction.

SUMMARY: The Coast Guard is issuing this correction to an earlier notice that published on September 9, 2005, in order to correct and update contact information. Our earlier notice listed an incorrect phone number, and omitted an address.

DATES: All written comments and related material must reach the Coast Guard on or before October 6, 2005. In addition, a public meeting will be held Thursday, September 29, 2005 at 7 p.m. Those who plan to speak at the meeting should provide their name by September 22, 2005 to Lieutenant Shadrack Scheirman using one of the methods listed under FOR FURTHER INFORMATION CONTACT. The comment period associated with the public meeting will remain open for seven days following the meeting. The meeting location is: Knappa High School, 41535 Old Highway 30, Astoria, OR 97102, 503-458-6166.

ADDRESSES: You may submit written comments to Commanding Officer, U.S. Coast Guard Sector Portland, 6767 N. Basin Ave., Portland, OR 97217. Sector Portland maintains a file for this notice. Comments and material received will become part of this file and will be available for inspection and copying at Sector Portland between 8 a.m. and 3 p.m. Monday through Friday, except Federal holidays.

FOR FURTHER INFORMATION CONTACT: If you have questions on this notice, contact Lieutenant Shadrack Scheirman at Sector Portland by one of the methods listed below:

(1) Phone at (503) 240-9307.

(2) E-mail at Shadrack.L.Scheirman@uscg.mil.

(3) Fax to (503) 240-2586.

SUPPLEMENTARY INFORMATION: The Coast Guard is issuing this correction to an earlier notice that published on September 9, 2005, (70 FR 53677) in order to correct and update contact information.

This correction corrects the phone number listed for Lieutenant Scheirman in the section entitled FOR FURTHER INFORMATION CONTACT. Additionally, the mailing address for Commanding Officer, U.S. Coast Guard Sector Portland was inserted in the section entitled ADDRESSES. This address was inadvertently omitted from the previous notice.

Dated: September 19, 2005.
Patrick G. Gerrity,
Captain, U.S. Coast Guard, Captain of the Port, Portland, OR.

[FR Doc. 05-19420 Filed 9-23-05; 4:08 pm]

BILLING CODE 4910-15-P